DEPARTMENT OF TRANSPORTATION

Federal Aviation Administration

14 CFR Part 71

[Docket No. FAA-2004-19581; Airspace Docket No. 04-ACE-71]

Proposed Establishment of Class E2 Airspace; and Modification of Class E5 Airspace; Ankeny, IA

AGENCY: Federal Aviation Administration (FAA), DOT.

ACTION: Notice of proposed rulemaking; correction.

SUMMARY: This action corrects a notice of proposed rulemaking that was published in the Federal Register on Wednesday, January 19, 2005, (70 FR 2991) [FR Doc. 05-969]. It corrects an error in the legal description of the proposed Class E airspace area designated as a surface area at Ankeny, IA.

DATES: Comments for inclusion in the Rules Docket must be received on or before March 1, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 05-969, published on Wednesday, January 19, 2005, (70 FR 2991) proposed to establish a Class E airspace area designated as a surface area and to modify the existing Class E airspace area extending upward from 700 feet above the surface at Ankeny, IA. The proposed airspace and changes were to protect aircraft departing from and executing instrument approach procedures to Ankeny Regional Airport. However, the dimensions of the extension to the proposed Class E airspace area designated as a surface area were incorrect.

Accordingly, pursuant to the authority delegated to me, the legal description of the Class E airspace area designated as a surface area at Ankeny, IA, as published in the Federal Register on Wednesday, January 19, 2005, (70 FR 2991) [FR Doc. 05-969] is corrected as follows:

§ 71.1 [Corrected]

On page 2992, Column 1, fifth paragraph, fourth line from the bottom, change “extending from the 7-mile radius” to read “extending from the 4.6-mile radius”.

Issued in Kansas City, MO, on January 20, 2005.
Anthony D. Roetzel,
Acting Area Director, Western Flight Services Operations.

[FR Doc. 05-2227 Filed 2-4-05; 8:45 am]

BILLING CODE 4910-13-M